NATIONAL FOUNDATION ON THE ARTS AND THE HUMANITIES

National Endowment for the Arts; National Council on the Arts 172nd Meeting

Pursuant to section 10(a)(2) of the Federal Advisory Committee Act (Pub. L. 92-463), as amended, notice is hereby given that a meeting of the National Council on the Arts will be held on March 24-25 2011 in Rooms 716 and M-09 at the Nancy Hanks Center, 1100 Pennsylvania Avenue, NW., Washington, DC 20506.

This meeting, from 5 p.m. to 5:30 p.m. on Thursday, March 24th in Room 716 and from 9 a.m. to 11 a.m. on Friday, March 25th in Room M-09 (ending times are approximate), will be open to the public on a space available basis. The Thursday agenda will include review and voting on applications and guidelines. On Friday, the meeting will begin with opening remarks by the Chairman, followed by presentations on Arts Education: Engaging New Audiences and Interagency Partnerships. The meeting will adjourn following concluding remarks and announcement of voting results.

A portion of this meeting, from 9 a.m. to 11 a.m. on Friday, March 25th, will be webcast. The webcast can be accessed by going to Art Works blog at http://www.arts.gov/artworks.

If, in the course of the open session discussion, it becomes necessary for the Council to discuss non-public commercial or financial information of intrinsic value, the Council will go into closed session pursuant to subsection (c)(4) of the Government in the Sunshine Act, 5 U.S.C. 552b, and in accordance with the determination of the Chairman of November 10, 2009. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: March 4, 2011.
Kathy Plowitz-Worden,
Panel Coordinator, Office of Guidelines and Panel Operations.

[FR Doc. 2011-5438 Filed 3-9-11; 8:45 am]

BILLING CODE 7537-01-P